DEPARTMENT OF COMMERCE

National Oceanic and Atmospheric Administration

50 CFR Part 648

[Docket No. 140902739-5224-02]

RIN 0648-XF672

Fisheries of the Northeastern United States; Atlantic Mackerel, Squid, and Butterfish Fishery; 2017 Illex Squid Quota Harvested

Correction

In rule document 2017-19208 appearing on page 42610 in the issue of Monday, September 11, 2017, make the following corrections:

1. In the first column, under the SUMMARY heading, in the fourth line “September 1, 2017” should read “September 15, 2017”.

2. In the first column, under the DATES heading, in the second line “September 1, 2017” should read “September 15, 2017”.

3. In the second column, in the first full paragraph, in the seventh, eighth, sixteenth and twenty sixth line “September 1, 2017” should read “September 15, 2017”.

[FR Doc. C1-2017-19208 Filed 9-13-17; 8:45 am]

BILLING CODE 1505-01-D